DEPARTMENT OF TRANSPORTATION

Federal Aviation Administration

High Density Traffic Airports; Slot Allocation and Transfer Method

AGENCY: Federal Aviation Administration (FAA), DOT.

ACTION: Statement of policy.

SUMMARY: This action extends until October 31, 2001 the temporary policy issued on November 11, 2000, regarding the minimum slot usage requirement for slots and slot exemptions at LaGuardia Airport. Additionally, the FAA advises all carriers that in view of recent events in the New York and Washington, DC areas, which resulted in the cessation of commercial air service nationwide, a separate policy providing appropriate relief from the slot usage requirement will be issued in the near future.

EFFECTIVE DATE: September 15, 2001.

FOR FURTHER INFORMATION CONTACT: Lorelei Peter, Office of the Chief Counsel, AGC-220, Federal Aviation Administration, 800 Independence Avenues, SW., Washington, DC 20591; telephone number 202-267-3073.

SUPPLEMENTARY INFORMATION:

Background

On November 17, 2000, the FAA published in the Federal Register a statement of policy regarding the slot usage requirement at LaGuardia Airport to address the high level of delay air carriers at LaGuardia experienced due to the increased number of operations under the “Wendell H. Ford Aviation Investment and Reform Act for the 21st Century” (“AIR-21”) (65 FR 69601). As a result of AIR-21, air carriers meeting specified criteria could obtain slot exemptions for new entrant service or service to small communities at New York's LaGuardia Airport, John F. Kennedy International Airport, and Chicago's O'Hare International Airport; a separate regime for increasing service opportunities was authorized for Washington DC's Ronald Reagan Washington National Airport. Subsequent to this legislation, the Department of Transportation issued eight orders establishing procedures for the processing of applications for these slot exemptions.

FAA air traffic operations data reported by OPSNET for September 2000 indicated that there were 1,163 average daily operations at LaGuardia, an increase of approximately 18 percent over the September 1999 level of 982 average daily operations. OPSNET also reported that air traffic control delays of 15 minutes or more at LaGuardia increased to 10,515 in September 2000 from 3,108 in September 1999. The percentage of flights recorded with air traffic delays increased to 30.13 percent from 10.55 percent. In comparison, the second highest level of OPSNET reported air traffic delays was at Newark International Airport, where the percentage of flights delayed showed a small decline to 8.5 percent in September 2000 compared to 8.7 percent in September 1999.

In September 2000, the FAA Air Traffic Control System Command Center regularly implemented traffic management programs to handle the increased volume of flights at LaGuardia. Peak period demand routinely exceeded airport capacity. Delays of one hour or more were frequent, even during ideal weather conditions, and often increased to several hours when adverse aviation weather reduced system capacity. Many airlines operationally addressed the increased delays through various means including waiting for the assigned clearance time, canceling flights, reaccommodating passengers on later flights, and adding flying time to account for increased operating times. Thus, the agency found it necessary to implement a temporary usage policy to accommodate carriers in managing their operations at the airport during this time.

This policy permitted carriers to return temporarily to the FAA the slots or slot exemptions in advance due to scheduled planning or other decisions by the carriers without jeopardizing the permanent loss of the slot or slot exemption. Additionally, the policy provided that the FAA would treat a slot or slot exemption as having been used if the flight was scheduled but canceled for operational reasons and the slot/slot exemption would not otherwise have been subject to withdrawal. Consequently, the policy provided some immediate relief and/or flexibility to carriers to schedule or cancel flights due to the increased level of delay occurring daily at the airport. This policy originally was effective through the April 2001 reporting period. On February 14, 2001, the FAA extended this policy through September 14, 2001, and modified the policy to permit the return of AIR-21 slot exemptions for weekend frequencies only but retained the provision allowing the temporary return of slots (66 FR 10931; February 20, 2001).

As a result of the increased volume of operations described above, and the consequent adverse impact on operations at the airport and across the air traffic system in whole, the FAA limited the number of AIR-21 slot exemptions at LaGuardia and reallocated the slot exemptions by a lottery on December 4, 2000. Through this lottery, the FAA reallocated 159 slot exemptions among participating carriers; this allocation was originally to remain in effect until September 15, 2001, but recently was extended until October 26, 2002 (66 FR 41294; August 7, 2001).

By letter dated August 13, American Airlines, Inc., TWA Airlines LLC, and American Eagle Airlines, Inc. requested an extension of the temporary usage policy until October 26, 2002. By letter dated August 14, Continental and Continental Express requested a similar extension of the usage policy. Both requests stated that since the agency had extended the AIR-21 slot exemption allocation until October 26, 2002, an extension of the policy to coincide with that extension is consistent with FAA's stated rationale when it extended the policy in February 2001. Delta Airlines likewise submitted a request to extend the policy until October 26, 2002, based on the same justification provided by American and Continental. Delta also commented that if the agency determined to not extend the policy, that the September-October reporting period should be extended until December 31, 2001.

Agency Response

The limitation on the number of AIR-21 slot exemptions became effective on January 31, 2001. At the time that the agency extended the temporary usage policy in February 2001, approximately 35 allocated High Density Rule slots and a number of the 159 authorized slot exemptions were not in service due to temporary returns or delays in start-up. Also at that time, the agency did not have a basis on which to assess the operational impact of the limited reallocation and to make any conclusions as to the effect of the limitation on slot exemptions on the operating environment at LaGuardia and the national airspace system. Consequently, the FAA decided to extend the policy to coincide with the slot exemption allocation so that the agency could monitor operations at the airport, discern measurable impact, and provide carriers with sufficient time to adjust their operations given the new reallocation of slot exemptions.

Today, carriers are experiencing a significantly different operating environment at LaGuardia. The FAA has established a limit of 75 scheduled operations per hour, which reflects the airport's capacity, provides opportunity for growth above the High Density Rule limits as provided under AIR-21 provisions, and ensures that scheduled demand will not reach the levels experienced at the airport beginning in September 2000. The operational benefits are reflected in the significant delay reductions after the lottery results were implemented. For example, the number of flights delayed by 15 minutes or more during July 2001 was 2,434, or about 7 percent of total airport operations for the month. Preliminary data for August 2001 indicates approximately 12 percent of airport operations were delayed. In each of the two months preceding the implementation of the temporary usage policy in November 2000, there were over 10,000 monthly delays, impacting up to 30 percent of total airport operations. Although a limited number of weekday slots have been returned under the temporary usage policy and most of the 21 exemptions reallocated in the August 15, 2001 lottery have not begun service, the FAA does not believe their full operation will significantly alter the current operational environment at LaGuardia. The operating environment at the airport has improved significantly from one year ago and the unpredictable delay situation prompted by continuing and significant increases in the number of exemption flights, which warranted adoption of the policy, no longer exists today. The FAA will continue to monitor operations at the airport and will revisit this issue if there is a change in the operating environment that warrants reconsideration of the usage requirement at LaGuardia.

The slot usage requirements under the regulations were last revised in 1992 and at that time, the FAA specifically addressed the fact that adoption of the 80 percent usage threshold takes into account certain factors such as weather and operational delay. The adopted 80 percent usage requirement provides an appropriate balance that ensures limited slot resources are used and allows a reasonable 20 percent level of non-operation due to operational, scheduling, or other reasons. The FAA finds that based on the above factors describing airport operations, there is no current operational reason to maintain the temporary policy until October 26, 2002. In order to accommodate schedules already planned through the remainder of the summer scheduling season, however, the FAA is extending this policy until the end of the September-October reporting period. Therefore, this policy will expire on October 31, 2001. While the agency is not adopting Delta's suggestion to extend the September/October reporting period until December 31, 2001, the FAA notes that under the minimum slot usage provisions, any slot held by a carrier at a High Density Traffic Airport is treated as used on the following days: Thanksgiving Day, the Friday following Thanksgiving Day and the period from December 24 through the first Saturday in January (14 CFR 93.227(l)). This provision, in addition to the limited extension of the usage policy to accommodate the summer scheduling season, provides carriers with adequate time to adjust their operations if necessary. The FAA also notes that carriers, who may experience usage issues for the September/October or November/December reporting period may utilize the provisions of the buy-sell rule to make slots available to other operators through the transfer process.

In the past when circumstances dictated that relief of general applicability from the slot usage requirement was necessary, the agency has waived the slot usage requirement for all carriers at certain High Density Traffic Airports. The FAA advises that the recent events in the New York and Washington, DC areas, which resulted in the temporary cessation of all commercial air service in the United States, warrant similar consideration. Consequently, the agency currently is considering the appropriate relief and will publish such policy in the Federal Register in the near future.

Issued in Washington, DC on September 13, 2001.
David G. Leitch,
Chief Counsel.

[FR Doc. 01-23287 Filed 9-14-01; 11:24 am]

BILLING CODE 4910-13-P